NATIONAL AERONAUTICS AND SPACE ADMINISTRATION

[Notice (08-087)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: November 12, 2008.

FOR FURTHER INFORMATION CONTACT: Kaprice L. Harris, Attorney Advisor, Glenn Research Center at Lewis Field, Code 500-118, Cleveland, OH 44135; telephone (216) 433-5754; fax (216) 433-6790.

NASA Case No. LEW-18324-1: Semiconductor Metal Oxide Modified Solid Electrolyte Carbon Dioxide Microsensors with Reduced Operation Temperature;

NASA Case No. LEW-18048-1: Two and Three Dimensional Near Infrared Subcutaneous Structure Images Using Real Time Nonlinear Video Processing;

NASA Case No. LEW-18362-1: Space Radiation Detector with Spherical Geometry.

Dated: November 4, 2008.
Michael C. Wholley,
General Counsel.

[FR Doc. E8-26824 Filed 11-10-08; 8:45 am]

BILLING CODE 7510-13-P